DEPARTMENT OF TRANSPORTATION

Federal Aviation Administration

Notice of Intent To Rule on Application 03-02-C-00-SFB To Impose and Use the Revenue From a Passenger Facility Charge (PFC) at Orlando Sanford International Airport, Sanford, FL

AGENCY: Federal Aviation Administration (FAA), DOT.

ACTION: Notice of intent to rule on application.

SUMMARY: The FAA proposes to rule and invites public comment on the application to impose and use the revenue from a PFC at Orlando Sanford International Airport under the provisions of the 49 U.S.C. 40117 and Part 158 of the Federal Aviation Regulations (14 CFR part 158).

DATES: Comments must be received on or before July 21, 2003.

ADDRESSES: Comments on this application may be mailed or delivered in triplicate to the FAA at the following address: Orlando Airports District Office, 5950 Hazeltine National Drive, Suite 400, Orlando, Florida 32822.

In addition, one copy of any comments submitted to the FAA must be mailed or delivered to Victor White, Executive Director of the Sanford Airport Authority at the following address: 1 Red Cleveland Blvd., Suite 1200, Sanford, Florida 32773.

Air carriers and foreign air carriers may submit copies of written comments previously provided to the Sanford Airport Authority under section 158.23 of Part 158.

FOR FURTHER INFORMATION CONTACT: Krystal Hudson, Program Manager, Orlando Airports District Office, 5950 Hazeltine National Drive, Orlando, Florida 32822, 407-812-6331 x36. The application may be reviewed in person at this same location.

SUPPLEMENTARY INFORMATION: The FAA proposes to rule and invites public comment on the application to impose and use the revenue from a PFC at Orlando Sanford International Airport under the provisions of the 49 U.S.C. 40117 and Part 158 of the Federal Aviation Regulations (14 CFR part 158).

On June 12, 2003, the FAA determined that the application to impose and use the revenue from a PFC submitted by Sanford Airport Authority was substantially complete within the requirements of section 158.25 of Part 158. The FAA will approve or disapprove the application, in while or in part, no later than September 27, 2003.

The following is a brief overview of the application.

Proposed charge effective date: November 1, 2003.

Proposed charge expiration date: June 30, 2014.

Level of the proposed PFC: $2.

Total estimated PFC revenue: $13,312,090.

Brief description of proposed project(s): Terminal Expansion Project.

Class or classes of air carriers which the public agency has requested not be required to collect PFCs: None.

Any person may inspect the application in person at the FAA office listed above under FOR FURTHER INFORMATION CONTACT and at the FAA regional Airports office located at: 1701 Columbia Ave., College Park, Georgia 30337.

In addition, any person may, upon request, inspect the application, notice and other documents germane to the application in person at the Sanford Airport Authority.

Issued in Orlando, Florida on June 12, 2003.
Matthew J. Thys,
Acting Manager, Airports Division, Southern Region.

[FR Doc. 03-15688 Filed 6-19-03; 8:45 am]

BILLING CODE 4910-13-M